NUCLEAR REGULATORY COMMISSION

Advisory Committee on the Medical Uses of Isotopes; Meeting Notice

AGENCY: U.S. Nuclear Regulatory Commission.

ACTION: Notice of meeting.

SUMMARY: NRC will convene a meeting of the Advisory Committee on the Medical Uses of Isotopes (ACMUI) on September 22-23, 2011. A sample of agenda items to be discussed during the public session includes: (1) A discussion on the reporting structure and methods of ACMUI and Advisory Committee on Reactor Safeguards best practices; (2) an update on the status of a Commission paper on data collection regarding patient release; (3) a discussion on electronic signatures for documents that are required to be signed in accordance with U.S. Nuclear Regulatory Commission (NRC) regulations; (4) a discussion on strontium breakthrough with rubidium-82 generators from a U.S. Food and Drug Administration perspective; (5) a discussion on strontium breakthrough with rubidium-82 generators from an NRC perspective; (6) a discussion on ACMUI's 2008 recommended revisions to the medical event abnormal occurrence language; (7) a discussion on medical-related events; (8) a summary from the outcomes of the NRC Medical Related Rulemaking Workshops; (9) a discussion on possible changes to the permanent implant brachytherapy subcommittee report; (10) and the status of 10 CFR part 35 rulemaking. A copy of the agenda will be available at http://www.nrc.gov/reading-rm/doc-collections/acmui/agenda or by e-mailing Ms. Sophie Holiday at the contact information below.

Purpose: Discuss issues related to 10 CFR part 35 Medical Use of Byproduct Material.

Date and Time for Closed Session: September 22, 2011, from 8 a.m. to 12 p.m. This session will be closed so that ACMUI members can enroll for and activate new badges and undergo NRC training.

Date and Time for Open Sessions: September 22, 2011, from 1:30 p.m. to 5 p.m. and September 23, 2011, from 8 a.m. to 4 p.m.

Address for Public Meeting: U.S. Nuclear Regulatory Commission, Two White Flint North Building, Room T2-B3, 11545 Rockville Pike, Rockville, Maryland 20852.

Public Participation: Any member of the public who wishes to participate in the meeting in person or via phone should contact Ms. Holiday using the information below. The meeting will also be webcast live: http://www.nrc.gov/public-involve/public-meetings/webcast-live.html.

Contact Information: Sophie J. Holiday, e-mail: sophie.holiday@nrc.gov, telephone: (301) 415-7865.

Conduct of the Meeting

Leon S. Malmud, M.D., will chair the meeting. Dr. Malmud will conduct the meeting in a manner that will facilitate the orderly conduct of business. The following procedures apply to public participation in the meeting:

1. Persons who wish to provide a written statement should submit an electronic copy to Ms. Holiday at the contact information listed above. All submittals must be received by September 16, 2011, and must pertain to the topic on the agenda for the meeting.

2. Questions and comments from members of the public will be permitted during the meeting, at the discretion of the Chairman.

3. The draft transcript will be available on ACMUI's Web site (http://www.nrc.gov/reading-rm/doc-collections/acmui/tr/) on or about October 25, 2011. A meeting summary will be available on ACMUI's Web site (http://www.nrc.gov/reading-rm/doc-collections/acmui/meeting-summaries/) on or about November 4, 2011.

4. Persons who require special services, such as those for the hearing impaired, should notify Ms. Holiday of their planned attendance.

This meeting will be held in accordance with the Atomic Energy Act of 1954, as amended (primarily Section 161a); the Federal Advisory Committee Act (5 U.S.C. App); and the Commission's regulations in Title 10, U.S. Code of Federal Regulations, part 7.

Dated: September 6, 2011.
Annette L. Vietti-Cook,
Secretary of the Commission.

[FR Doc. 2011-23211 Filed 9-9-11; 8:45 am]

BILLING CODE 7590-01-P